DEPARTMENT OF ENERGY

Energy Information Administration

Agency Information Collection Extension

AGENCY: U.S. Energy Information Administration (EIA), Department of Energy (DOE).

ACTION: Notice and request for comments.

SUMMARY: EIA invites public comment on the proposed collection of information, EIA-914, Monthly Crude Oil and Lease Condensate, and Natural Gas Production Report, as required under the Paperwork Reduction Act of 1995. EIA is requesting a three-year extension with changes of Form EIA-914 Monthly Crude Oil and Lease Condensate, and Natural Gas Production Report. The survey collects monthly data on production and sales of natural gas, and crude oil and lease condensate. The data provide useful information on the nation's production and sales of crude oil and natural gas.

DATES: EIA must receive all comments on this proposed information collection no later than July 31, 2023. If you anticipate any difficulty in submitting comments within that period, contact the person listed in the FOR FURTHER INFORMATION CONTACT section of this notice as soon as possible.

ADDRESSES: Submit comments electronically to Petroleum and Other Liquids Data at eiainfopetroleum@eia.gov with 60-day Federal Register Notice: Form EIA-914 in the subject line, or mail comments to: Katie Lewis, U.S. Energy Information Administration, EI-23, 1000 Independence Avenue SW, Washington, DC 20585.

FOR FURTHER INFORMATION CONTACT: If you need additional information, please contact: Katie Lewis, U.S. Energy Information Administration, at (202)586-5138, or by email at katie.lewis@eia.gov. The form and instructions are available on EIA's website at: https://www.eia.gov/survey/#eia-914.

SUPPLEMENTARY INFORMATION: This information collection request contains: (1) OMB No.: 1905-0205;

(2) Information Collection Request Title: Monthly Crude Oil and Lease Condensate, and Natural Gas Production Report;

(3) Type of Request: Thee-year extension with changes; revision of the currently approved Form EIA-914.

(4) Purpose: Form EIA-914 Monthly Crude Oil and Lease Condensate, and Natural Gas Production Report collects monthly data on natural gas production, and crude oil and lease condensate production, and crude oil and lease condensate sales by API gravity category in 22 state/areas (Alabama, Arkansas, California (including State Offshore), Colorado, Federal Offshore Gulf of Mexico, Federal Offshore Pacific, Kansas, Louisiana (including State Offshore), Michigan, Mississippi (including State Offshore), Montana, New Mexico, North Dakota, Ohio, Oklahoma, Pennsylvania, Texas (including State Offshore), Utah, Virginia, West Virginia, Wyoming, and Other States (defined as all remaining states, except Alaska)). The data appear in the Monthly Crude Oil and Lease Condensate, and Natural Gas Production Report on EIA's website and in the EIA publications; Monthly Energy Review, Petroleum Supply Annual volumes, Petroleum Supply Monthly, Natural Gas Annual, and Natural Gas Monthly.

(4a) Changes to Information Collection: EIA proposes to make the following changes to Form EIA-914, Monthly Crude Oil and Lease Condensate, and Natural Gas Production Report:

• Section 4 of Form EIA-914, Crude Oil and Lease Condensate Run Ticket Volumes (Sales) by API Gravity, which collected density data for crude oil and lease condensate production for selected States would be discontinued and deleted from Form EIA-914.

(5) Annual Estimated Number of Respondents: 400.

(6) Annual Estimated Number of Total Responses: 4,800.

(7) Annual Estimated Number of Burden Hours: 14,400.

(8) Annual Estimated Reporting and Recordkeeping Cost Burden: $1,257,984 (14,400 burden hours times $87.36). EIA estimates that respondents will have no additional costs associated with the surveys other than the burden hours and that the information is maintained during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on May 24, 2023.
Samson A. Adeshiyan,
Director, Office of Statistical Methods and Research, U.S. Energy Information Administration.

[FR Doc. 2023-11482 Filed 5-30-23; 8:45 am]

BILLING CODE 6450-01-P